DEPARTMENT OF DEFENSE

Department of the Army, Corps of Engineers

Termination of Environmental Impact Statement (EIS) for the Alaska Department of Transportation & Public Facilities Foothills West Transportation Access Project

AGENCY: U.S. Army Corps of Engineers, Department of Defense.

ACTION: Withdrawal of notice of intent.

SUMMARY: The Alaska District, U.S. Army Corps of Engineers (Corps) is notifying interested parties that it has terminated the process to develop an Environmental Impact Statement and has withdrawn the application for a Department of the Army permit from the Alaska Department of Transportation and Public Facilities (DOT&PF) proposed Foothills West Transportation Access Project (Foothills Project). The original Notice of Intent to Prepare the EIS was published in the Federal Register on May 20, 2011 (76 FR 29218).

FOR FURTHER INFORMATION CONTACT: Questions regarding the termination of this EIS process should be addressed to: Ms. Melissa Riordan, Regulatory Division, telephone: (907) 474-2166, or mail: U.S. Army Corps of Engineers, CEPOA-RD, 2175 University Avenue, Suite 201(E), Fairbanks, AK 99709-4927. Or email: melissa.c.riordan@usace.army.mil. Emailed questions, including attachments, should be provided in .doc, .docx, .pdf or .txt formats.

SUPPLEMENTARY INFORMATION: The Alaska District published the original Notice of Intent to prepare the EIS for the proposed Foothills project in the Federal Register on Friday, May 20, 2011 (76 FR 29218). In the summer of 2013 the Alaska DOT&PF decided to re-evaluate plans for future EIS work, and in response the Corps suspended work and closed the EIS project file. After confirming on October 21, 2014 that the DOT&PF has no future plans to proceed with the project, the Corps officially determined that it is appropriate to terminate the EIS. The Corps' neutral role in the EIS process was to evaluate the environmental consequences of the proposed project under the authority of Section 10 of the River and Harbors Act of 1899 and Section 404 of the Clean Water Act. The preparation of the EIS was being conducted by a third-party contractor directed by the Corps, and funded by the applicant, which is typical of the Corps Regulatory EIS studies. Withdrawal of the permit application and termination of the EIS process will not prevent DOT&PF from reapplying at a later date.

Dated: November 3, 2014.
Approved by:
Michael Salyer,
North Branch Chief, Alaska District, U.S. Army Corps of Engineers.

[FR Doc. 2014-30862 Filed 1-2-15; 8:45 am]

BILLING CODE 3720-58-P